ENVIRONMENTAL PROTECTION AGENCY

[EPA-HQ-OECA-2013-0333; FRL—10017-61-OMS]

Information Collection Request Submitted to OMB for Review and Approval; Comment Request; Air Emission Standards for Tanks, Surface Impoundment and Containers (Renewal)

AGENCY: Environmental Protection Agency (EPA).

ACTION: Notice.

SUMMARY: The Environmental Protection Agency (EPA) has submitted an information collection request (ICR), Air Emission Standards for Tanks, Surface Impoundment and Containers (EPA ICR Number 1593.11, OMB Control Number 2060-0318), to the Office of Management and Budget (OMB) for review and approval in accordance with the Paperwork Reduction Act. This is a proposed extension of the ICR, which is currently approved through January 31, 2021. Public comments were previously requested, via the Federal Register on May 12, 2020 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before December 31, 2020.

ADDRESSES: Submit your comments to EPA, referencing Docket ID No. EPA-HQ-OECA-2013-0333, online using www.regulations.gov (our preferred method), by email to docket.oeca@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: Owners and operators of affected facilities are required to comply with reporting and record keeping requirements for the General Provisions (40 CFR part 264, subpart A and 40 CFR 265, Subpart A), as well as for the specific requirements at 40 CFR part 264, Subpart CC and 40 CFR part 265, Subpart CC. This includes submitting initial notifications, performance tests and periodic reports and results, and maintaining records of the occurrence and duration of any startup, shutdown, or malfunction in the operation of an affected facility, or any period during which the monitoring system is inoperative. These reports are used by EPA to determine compliance with these standards.

Form Numbers: None.

Respondents/affected entities: Facilities that treat, store, or dispose of hazardous wastes in tanks, surface impoundments, and containers.

Respondent's obligation to respond: Mandatory (40 CFR part 264, subpart CC and 40 CFR part 265, subpart CC).

Estimated number of respondents: 6,760 (total).

Frequency of response: Occasionally and semiannually.

Total estimated burden: 775,000 hours (per year). Burden is defined at 5 CFR 1320.3(b).

Total estimated cost: $105,000,000 (per year), which includes $13,500,000 in annualized capital and/or operation & maintenance costs.

Changes in the Estimates: There is an adjustment increase in the total estimated burden as currently identified in the OMB Inventory of Approved Burdens. This increase is not due to any program changes; the regulations have not changed over the past three years and are not anticipated to change over the next three years. The Agency estimate of the number of respondents has increased and there is an attendant increase in the cost of monitoring, recordkeeping, and reporting. The increase in the estimated number of respondents is due to a re-examination of the Agency's ECHO database of sources subject to hazardous waste and Resource Conservation and Recovery Act requirements.

Courtney Kerwin,
Director, Regulatory Support Division.

[FR Doc. 2020-26476 Filed 11-30-20; 8:45 am]

BILLING CODE 6560-50-P